DEPARTMENT OF ENERGY

Federal Energy Regulatory Commission

[Docket No. EL11-12-000]

Idaho Wind Partners 1, LLC; Notice of Petition for Declaratory Order

December 17, 2010.

Take notice that on December 15, 2010, Idaho Wind Partners 1, LLC (Petitioner), pursuant to Rule 207 of the Federal Energy Regulatory Commission's (Commission) Rules of Practice and Procedure, 18 CFR 385.207 (2010), filed a Petition for Declaratory Order. Petitioner requests that the Commission issue an order confirming that proposed transaction in connection with an instantaneous sale of energy and renewable energy credits by the Project Companies ¹ to a third-party offtaker, with an instantaneous buy-back of the energy only would not: (1) Violate any of the Commission's anti-manipulation rules, and (2) result in the loss of small power producer qualifying facility status for any of the wind generation facilities owned by Project Companies and would not disqualify the ultimate sale of electric power from the Project Companies to the local utility from being considered an avoided cost sale by a QF pursuant to the Public Utility Regulatory Policies Act of 1978, as amended (PURPA).²

¹ Thousand Springs Wind Park, LLC, Tuana Gulch Wind Park, LLC, Oregon Trail Wind Park, LLC, Payne's Ferry Wind Park LLC, Camp Reed Wind Park, LLC, Yahoo Creek Wind Park, LLC, Salmon Falls Wind Park, LLC, Pilgrim Stage Station Wind Park, LLC, Burley Butte Wind Farm, LLC, Milner Dam Wind Farm LLC, Golden Valley Wind Farm, LLC (collectively, the “Project Companies”).

² Public Law 109-58 § 1253, 119 Stat. 594, 967-70 (2005).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 14, 2011.

Kimberly D. Bose,
Secretary.

[FR Doc. 2010-32363 Filed 12-23-10; 8:45 am]

BILLING CODE 6717-01-P